DEPARTMENT OF THE TREASURY

Office of the Comptroller of the Currency

[OCC Charter Number 703395]

Illinois-Service Federal Savings and Loan Association, Chicago, Illinois; Approval of Conversion Application

Notice is hereby given that on April 25, 2016, the Office of the Comptroller of the Currency (OCC) approved the application of Illinois-Service Federal Savings and Loan Association, Chicago, Illinois, to convert to the stock form of organization. Copies of the application are available for inspection on the OCC Web site at the FOIA Electronic Reading Room https://foia-pal.occ.gov/palMain.aspx. If you have any questions, please call OCC Licensing Activities at (202) 649-6260.

Dated: May 24, 2016.
By the Office of the Comptroller of the Currency.
Stephen A. Lybarger,
Deputy Comptroller for Licensing.

[FR Doc. 2016-12839 Filed 5-31-16; 8:45 am]

BILLING CODE 4810-33-P